CORPORATION FOR NATIONAL AND COMMUNITY SERVICE

Notice of Availability of Funds to Support Americorps*State Competitive and National Programs, and Learn and Serve America K-12 School-Based Programs, in Efforts to Help Overcome the Digital Divide and Provide Digital Opportunities

AGENCY: Corporation for National and Community Service.

ACTION: Notice of availability of funds.

SUMMARY: The Corporation for National and Community Service (the Corporation) will use approximately $12,500,000 to award grants under the AmeriCorps*State Competitive and AmeriCorps*National programs, and Learn and Serve America K-12 School-based programs, to eligible organizations to support efforts to help overcome the digital divide and provide digital opportunities.

DATES: All proposals must arrive at the Corporation for National Service no later than 5:00 p.m., Eastern Daylight Time, June 23, 2000. The Corporation anticipates announcing its selections under this announcement no later than August 8, 2000.

ADDRESSES: Proposals must be submitted to the Corporation at the following address: Corporation for National and Community Service, Attn: Nancy Talbot, 1201 New York Avenue NW, Washington, DC 20525. This notice may be requested in an alternative format for the visually impaired.

FOR FURTHER INFORMATION CONTACT: For further information, or to obtain an application, contact Maria Diaz at (202) 606-5000, ext. 372.

SUPPLEMENTARY INFORMATION:

Background

The Corporation is a federal government corporation that encourages Americans of all ages and backgrounds to engage in community-based service to meet the nation's educational, public safety, environmental and other human needs. In doing so, the Corporation fosters civic responsibility, strengthens the ties that bind us together as a people, and provides educational opportunity for those who make a substantial commitment to service. This year, the Corporation will support over 40,000 AmeriCorps members who perform substantial service in communities across the country and over one million students in service-learning programs.

Announcements concerning the availability of Corporation funding for AmeriCorps and Learn and Serve America programs in fiscal year 2000 were previously made known to eligible applicants and publicized (see the Federal Register notice dated February 16, 2000 (65 FR 7857) and information at the Corporation's website at www.nationalservice.org). The Corporation is now making available approximately $12.5 million for the purpose of supporting AmeriCorps members and students in grades K-12 in efforts to overcome the digital divide. Of the $12.5 million: approximately $5 million is being made available under AmeriCorps*State competitive grants; approximately $5 million is being made available under AmeriCorps*National grants; approximately $2 million is being made available under Learn and Serve America: School-based programs; and approximately $500,000 is being made available to Indian tribes under Learn and Serve America: School-based programs. The Corporation anticipates making grants in each of these categories; proposals within each of the specified categories will be judged against each other. The Corporation anticipates making approximately 30 grants in AmeriCorps*State Competitive, approximately 20 grants in AmeriCorps*National, and approximately 10 grants in Learn and Serve America: School-based programs.

Purpose of Grants

Americans increasingly have access to computers and the Internet. It is estimated that more than 42 percent have access to computers at home and 26 percent have access to the Internet at home. At the same time, however, studies find that there is a significant “digital divide” separating Americans into information “haves” and “have nots.” In some instances, the gap is widening. By some estimates, the gaps between White and Hispanic households, and between White and African American households, are now approximately five percentage points larger than they were in 1997. The disparity based on education and income levels also has increased in the last year. (To learn more about the digital divide, go to www.digitaldivide.gov to view the Department of Commerce's study, Falling Through the Net: Defining the Digital Divide.) At the same time, schools are gaining more access to computers and the Internet. A Department of Education report states that about 95 percent of schools are now connected to the web. However, many schools do not have the trained personnel to effectively use technology in the curriculum. Nearly 50 percent of today's teachers have little or no computer experience, much less the training and confidence they need to fully integrate networked computers into their classroom teaching.

People power will be a critical resource in successfully overcoming the digital divide and creating digital opportunities. They are needed to ensure that technology is reaching all communities and that it is being used effectively. Without people who can provide training and technical support, children and families in low-income communities will not develop the skills needed to keep up in the digital age.

AmeriCorps members and Learn and Serve America students can help bridge the digital divide by serving in programs that (1) Assist in delivering technology access to low-income individuals and families, (2) help train school teachers and staff in community organizations so that they will become adept at using technology in their work with young people; (3) build the technology skills of those Americans, especially children, who have not yet been exposed to computers; and (4) use technology to meet the needs of communities.

Eligible Applicants

There are different eligible applicants for each category of funds.

For AmeriCorps*State competitive funds, most states and Puerto Rico are eligible to submit an application to the Corporation, through a Corporation-approved state commission or alternative administrative entity. Generally, any entity, including an Indian tribe, proposing to operate a program within a single state should apply to its state commission for funds. However, because North Dakota, South Dakota, the District of Columbia, and U.S. territories do not have state commissions, entities proposing to operate a program within these states or territories are not eligible for AmeriCorps*State competitive funds. However, such entities may be included in a program funded under AmeriCorps*National.

Under the AmeriCorps*National category, national nonprofits, professional corps programs, and multi-state programs are eligible to apply for national service funds directly to the Corporation. We define a national nonprofit organization as one whose mission, membership and activities, or constituencies are national in scope. National nonprofit organizations may operate programs directly, replicate successful models, or provide subgrants to local chapters or affiliates.

Eligible applicants proposing programs that operate in more than one state must seek funding under this category. Eligible applicants also include partnerships or consortia formed across two or more states, consisting of institutions of higher education, Indian tribes, or other nonprofits including labor and religious organizations.

For Learn and Serve America School-based programs, eligible applicants include: State Education Agencies, Grantmaking Entities, Indian tribes, and U.S. territories. A Grantmaking Entity is a public or private nonprofit organization that must (1) Have experience with service-learning; (2) have existed for at least one year; and (3) make subgrants in two or more states. A state commission or community-based organization that does not qualify as a Grantmaking Entity may participate in carrying out a School-based program, provided that the application is submitted by an eligible applicant.

An organization described in Section 501(c)(4) of the Internal Revenue Code of 1986, 26 U.S.C. 501(c)(4) that engages in lobbying activities is not eligible to apply or receive any assistance under this Notice.

Purpose of assistance

The following are examples of the types of programs that a grant may support:

• Programs that train teachers and/or staff and volunteers in youth-serving organizations in the use of technology so that they, in turn, will become adept at using technology in their ongoing work.

• Community-based programs that provide in-school and after-school tutoring to younger children in the use of the internet and other computer technology.

• College-based programs in which AmeriCorps members and/or service-learning students, including Federal Work-Study students, serve at schools, community centers, and computer learning centers in low-income, multi-family housing projects.

• Programs in which AmeriCorps members recruit community volunteers and individuals in organizations with technology expertise to provide computer installation, wiring, classroom instruction, e-mail mentors, and staff for computer labs and after-school and weekend programs.

• Programs designed to assure that community centers are wired and connected to the Internet.

• Programs that expand the technology capacity of nonprofit organizations.

• Projects that use technology as a tool in welfare-to-work or job-training programming. AmeriCorps members could serve in nonprofit agencies to develop and provide technology training programs geared to the needs of local businesses.

• Programs that involve AmeriCorps members, Learn and Serve America participants, and seniors.

The above are examples only; local programs will determine the best strategies for overcoming the digital divide and providing digital opportunities.

The Corporation strongly encourages applications that involve all streams of service in efforts to overcome the digital divide. We encourage programs to make use of volunteers, including senior volunteers and intergenerational programs, in their design. We also recommend considering ways in which AmeriCorps and Learn and Serve America programs can work effectively together. Because of statutory requirements, an entity seeking to sponsor both AmeriCorps and Learn and Serve America activities must submit separate applications, noting its proposed relationship between the two programs.

The Corporation also encourages efforts that will have a lasting impact in the communities being served. It may be advantageous, for example, for a program to train teachers, who in turn will use their new skills to educate children for coming decades. Applicants should consider these and other ways to assure the sustainability and long-lasting effects of activities supported with these grants.

For more information on the programs supported by the Corporation, see the Corporation's website or contact the Corporation representative listed above.

Contents of the Proposal

All eligible applicants must submit an application that meets all of the criteria and requirements contained in the application package and accompanying guidelines previously published for the year 2000 and available on the Corporation's website.

Eligible applicants under AmeriCorps*State competitive funds, other than state commissions themselves, should contact the state commission for an application. A listing and contact information is available on the Corporation's website.

Eligible applicants under AmeriCorps*National can obtain a copy of the requirements, including the application package itself and accompanying guidelines from the Corporation website.

Eligible applicants under Learn and Serve America School-based programs can obtain a copy of the requirements, including the application package itself and accompanying guidelines, “2000 School- and Community-Based Grant Application and Guidelines,” from the Corporation website.

For a printed copy of any of these materials, please contact Maria Diaz at (202) 606-5000, ext. 372.

Applicants are urged to pay close attention to these materials. They govern a wide variety of relevant requirements, including matching funds, the amounts AmeriCorps members may be paid, the activities AmeriCorps members may engage in, the requirement that Learn and Serve participants cannot be paid, and the requirements for organizations proposing to operate a program.

In addition, applicants must propose activities for AmeriCorps members and students that seek to overcome the digital divide. Proposals that do not address the digital divide will be judged nonresponsive under this Notice of Funding Availability.

Applicants currently operating or applying for AmeriCorps and Learn and Serve America funding may apply for funding under this notice. In doing so, the applicant must also differentiate between the proposed objectives and activities and those of its currently-funded national service program or pending application.

All applicants must submit an estimated budget to carry out the program, consistent with the requirements contained in the applicable application package.

Budget and Finances

The grant may support reasonable and necessary costs typically associated with a program of this type. The otherwise applicable limit on the percentage of grant funds that may be used to purchase equipment (10 percent of the total grant amount) may be increased by the Corporation for grants under this Notice.

Applicants for AmeriCorps funds are required to meet previously published limitations on per-member costs to be paid by the Corporation (see the guidelines referenced earlier). State commissions are advised that this grant is to be included in calculating averages to meet the statewide per member ceiling in funding for AmeriCorps.

Under AmeriCorps, the Corporation will make awards covering a period not to exceed three years. Applications must include a proposed budget and proposed activities for the entire award period. If the Corporation approves an application and enters into a multi-year award agreement, at the outset it may provide funding only based on the first year's budget. The Corporation has no obligation to provide additional funding. Additional funding is contingent upon satisfactory performance, the availability of funds, and other criteria established in the award agreement.

For Learn and Serve America, grants will be for up to $500,000 over a three-year period, with the entire amount awarded at one time.

Selection Criteria

In awarding these grants, the Corporation will consider: program design (60%); organizational capacity (25%); and budget/cost effectiveness (15%). The details of the selection criteria are contained in the applicable application package. The Corporation will make all final decisions concerning awards and may require revisions to the grant proposal in order to achieve the objectives under this Notice.

Notice of Intent To Submit

If you intend to submit an application, please send us a notice of intent to submit by May 30, 2000 addressed to: Maria Diaz, Corporation for National Service, 1201 New York Avenue N.W., Washington, DC 20525.

or email to mdiaz@cns.gov. The letter of intent should state that you plan to submit an application for the digital divide competition for the June 23, 2000 deadline. If you do not send a notice of intent to submit, you may still submit an application. Conversely, if you send a notice of intent to submit, you are not obligated to submit an application. Although submission is not mandatory, we encourage you to submit as it will help the Corporation to plan more efficiently for our review.

The notice should include the name of your organization, address, contact person, phone number and the program under which you will submit an application, i.e., AmeriCorps*State Competitive, AmeriCorps*National, Learn and Serve America School-based programs. State commissions should submit a letter of intent that includes all subgrantee programs they plan to submit to the Corporation.

CFDA Nos.

94.004 Learn and Serve America School-Based

94.006 AmeriCorps

Dated: April 21, 2000.
Gary Kowalczyk,
Coordinator, National Service Programs, Corporation for National and Community Service.

[FR Doc. 00-10554 Filed 4-27-00; 8:45 am]

BILLING CODE 6050-28-P